ENVIRONMENTAL PROTECTION AGENCY

[FRL-9114-9]

North Carolina Waters Along the Entire Length of New Hanover County; Final No Discharge Zone Determination

On August 24, 2009, the Environmental Protection Agency (EPA) published a notice that the North Carolina Department of Environment and Natural Resources (DENR) Division of Water Quality (DWQ) had petitioned the Region 4 Regional Administrator to determine that adequate and reasonably available pumpout facilities exist for the designation of New Hanover County, North Carolina, Coastal Waters as a No Discharge Zone (NDZ). One comment in favor of this designation was received.

Specifically, these waters extend three nautical miles (nm) into the Atlantic Ocean along the entire length of New Hanover County, including Futch Creek, Pages Creek, Bradley Creek, Hewlett's Creek, Howe Creek, Whiskey Creek, Snow's Cut, as well as unnamed tributaries and all unnamed tidal creeks to those waters.

The geographic description including latitudes and longitudes are as follows: northern border of New Hanover County with southern border of Pender County (34°17′53.5″ N 77°42′32.2″ W), to a point 3 nm off the coast at the intersection of New Hanover and Pender Counties (34°16′01.9″ N 77°40′20.5″ W).

Intersection of the southern tip of New Hanover County with Brunswick County at the Cape Fear River (33°55′43.0″ N 77°56′13.6″ W), southeastward along the extended intersection of the two counties, 3 nm into the Atlantic Ocean (33°53′07.5″ N 77°55′34.5″ W).

This petition was filed pursuant to the Clean Water Act, Section 312(f)(3), Public Law 92-500 as amended by Public Law 95-217 and Public Law 100-4. A NDZ is defined as a body of water in which the discharge of vessel sewage, both treated and untreated, is prohibited.

Section 312(f)(3) states:

“After the effective date of the initial standards and regulations promulgated under this section, if any State determines that the protection and enhancement of the quality of some or all of the waters within such States require greater environmental protection, such State may completely prohibit the discharge from all vessels of any sewage, whether treated or not, into such waters, except that no such prohibition shall apply until the Administrator determines that adequate facilities for the safe and sanitary removal and treatment of sewage from all vessels are reasonably available for such water to which such prohibition would apply.”

According to DENR DWQ the following facilities are located in New Hanover County for pumping out vessel holding tanks:

(1) Carolina Beach Municipal Marina, Carolina Beach, 910-458-2540, open 24 hours per day, 7 days per week, 6′ draft at mean low tide.

(2) Carolina Beach State Park Marina, Carolina Beach State Park, Carolina Beach, 910-458-7770, 8 AM-5:45 PM, 7 days/week, 6′ draft at mean low tide.

(3) Federal Point Yacht Club, 910 Basin Road, Carolina Beach, 910-458-4511, only available to club members, 5′ draft at mean low tide.

(4) Mona Black Marina, Carolina Beach, 910-458-0575, open 24/7, 20′ draft at mean low tide.

(5) Joyner Marina, Carolina Beach, 910-458-5053, open 7 AM-6 PM, 7 days per week, 6′ draft at mean low tide.

(6) Bridge Tender Marina, City of Wilmington, 910-256-6550, 7 AM-8 PM, 7 days/week, 10′ draft at mean low tide.

(7) Creekside Yacht Club, City of Wilmington, 910-350-0023, Operational December 2009, 4′ draft at mean low tide.

(8) Sea Path Yacht Club, Town of Wrightsville Beach, 910-256-3747, 7 AM-7 PM, 7 days/week, 10′ draft at mean low tide.

(9) Wrightsville Beach Marina & Transient Dock, Town of Wrightsville Beach, 910-256-6666, 7 AM-7 PM, 7 days/week, 12′ draft at mean low tide.

Two Marinas that are located within 7 nautical miles of the proposed NDZ are:

(A) Wilmington Marine Center, 910-395-5055, 8 AM—5 PM 7 days/week, 7′ draft at mean low tide.

(B) Bald Head Island Marina, 910-457-7380, 8:30 AM-5:30 PM 7 days/week, 8′ draft at mean low tide.

The total vessel population for New Hanover County as of August 5, 2008, was 13,940. This number reflects active vessel registrations and was obtained from the North Carolina Wildlife Resources Commission. During the period of 2006 to 2008, the total number of active registered vessels increased nearly 15%. The result is that there are nearly 1,800 more pleasure boats in the area waters today than just two years ago, with the largest increase occurring in boats between 16′ and 25′ in length. It is recognized that only a percentage of the vessels in the coastal waters of New Hanover County are equipped with a Marine Sanitation Device (MSD). To estimate the number of MSDs in use, percentages obtained from EPA (Region 2) were applied, and are listed below:

Boat length | Percent with MSDs
<16′ | 8.3
16′-25′ | 10.6
26′-40′ | 78.5
>40′ | 82.6

This yields an estimated 2,046 MSDs in use by registered boats within New Hanover County.

Through the use of a marina survey, the number of transient boats serviced by marinas in New Hanover County was calculated to be approximately 180 per month. This figure was arrived at by using the peak season transient boat figures from each marina. Using the figures for both county and transient boats, the total number of MSDs in the New Hanover County waters is estimated to be 2,194. There are 9 marinas within New Hanover County and this yields a ratio of about 244 boats per pumpout facility. This figure does not include the two marinas that are located within 7 nautical miles of this proposed NDZ area.

All vessel pumpout facilities that are described either discharge into State approved and regulated septic tanks or State approved on-site waste treatment plant, or the waste is collected into a large holding tank for transport to a sewage treatment plant. Thus all vessel sewage will be treated to meet existing standards for secondary treatment. Based on the examination of this petition, its supporting documentation, and public response, EPA concurs with the State of North Carolina's determination that adequate and reasonably available facilities for the safe and sanitary removal and treatment of sewage from all vessels are present in New Hanover County North Carolina, and therefore this area is designated as a NDZ.

Dated: January 29, 2010.
J. Scott Gordon,
Acting Regional Administrator, Region 4.

[FR Doc. 2010-3372 Filed 2-19-10; 8:45 am]

BILLING CODE 6560-50-P